FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than May 7, 2013.

A. Federal Reserve Bank of Chicago (Colette A. Fried, Assistant Vice President) 230 South LaSalle Street, Chicago, Illinois 60690-1414:

1. Daniel Kumley, Mount Vernon, Iowa, Matthew Kumley, Monticello, Iowa, and Sarah Jones, Dyer, Indiana, to join the Audrey G. Savage Family Control group and thereby acquire voting shares of Herky Hawk Financial Corp., and thereby indirectly acquire voting shares of Citizens State Bank, both in Monticello, Iowa.

Board of Governors of the Federal Reserve System, April 17, 2013.
Michael J. Lewandowski,
Assistant Secretary of the Board.

[FR Doc. 2013-09424 Filed 4-22-13; 8:45 am]

BILLING CODE 6210-01-P